ELECTION ASSISTANCE COMMISSION

Sunshine Act Notice

AGENCY: United States Election Assistance Commission.

ACTION: Notice of public meeting for the Technical Guidelines Development Committee.

DATE AND TIME: Thursday, September 29, 2005, 9 a.m. to 5 p.m.

PLACE: National Institute of Standards and Technology, 325 Broadway, Boulder, Colorado 80305-3328.

STATUS: This meeting will be open to the public. There is no fee to attend, but, due to security requirements, advance registration is required. Registration information will be available at http://vote.nist.gov.

SUMMARY: The Technical Guidelines Development Committee (the “Development Committee” has scheduled a plenary meeting for September 29, 2005. The Development Committee was established to act in the public interest to assist the Executive Director of the Election Assistance Commission in the development of the voluntary voting system guidelines. The Development Committee held four previous meetings on July 9, 2004; January 18 and 19, 2005; March 9, 2005; and April 20 and 21, 2005. The proceedings of these meetings are available for public review at http//vote.nist.gov/PublicHearingsandMeetings.html. On May 9, 2005, the Development Committee delivered initial recommendations for voluntary voting system guidelines to the Election Assistance Commission (EAC). The purpose of this fifth meeting of the Development Committee will be to review and approve a work plan for future voluntary voting system guidelines recommendations to the EAC. The work plan responds to tasks defined in resolutions passed at Technical Guideline Development Committee meetings.

SUPPLEMENTARY INFORMATION: The Technical Guidelines Development Committee (the “Development Committee”) has scheduled a plenary meeting for September 29, 2005. The Committee was established pursuant to 42 U.S.C. 15361, to act in the public interest to assist the Executive Director of the Election Assistance Commission in the development of the voluntary voting system guidelines. The Technical Guidelines Development Committee held its first plenary meeting on July 9, 2004. At this meeting, the Development Committee agreed to a resolution forming three working groups: (1) Human Factors & Privacy; (2) Security & Transparency; and (3) Core Requirements & Testing to gather information and public input on relevant issues. The information gathered by the working groups was analyzed at the second meeting of the Development Committee January 18 and 19, 2005. Resolutions were adopted by the Development Committee at the January plenary session. The resolutions defined technical work tasks for NIST that would assist the Development Committee in developing recommendations for voluntary voting system guidelines. At the March 9, 2005 meeting, NIST scientists presented preliminary reports on technical work tasks defined by resolutions adopted at the January plenary meeting and one additional resolution was adopted by the Development Committee. The Development Committee approved with edits initial recommendations for voluntary voting system guidelines at the April 20 and 21, 2005 meeting. The document, Voluntary Voting System Guidelines Version 1: Initial Report was submitted by the Development Committee to the EAC as required by HAVA on May 9, 2005. The EAC is currently accepting public comment on proposed voluntary voting system guidelines through September 30, 2005. Proposed guidelines and public comment procedures are available at http://www.eac.gov.

CONTACT INFORMATION: Allan Eustis, 100 Bureau Drive, Mail Stop 8900, Gaithersburg, MD 20899-8900, phone 301-975-5099. Written comments concerning the Development Committee's operations should be addressed to the contact person indicated above, or to voting@nist.gov.

Thomas R. Wilkey,
Executive Director, U.S. Election Assistance Commission.

[FR Doc. 05-17944 Filed 9-6-05; 2:50 pm]

BILLING CODE 6820-KF-M